DEPARTMENT OF THE INTERIOR

National Park Service

National Register of Historic Places; Notification of Pending Nominations and Related Actions

Nominations for the following properties being considered for listing or related actions in the National Register were received by the National Park Service before April 3, 2010. Pursuant to section 60.13 of 36 CFR Part 60 written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by May 24, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Madison County

Warden's Residence, 151 Stone St, Triana, 10000258

COLORADO

Adams County

Eastlake Farers Co-Operative Elevator Company, 126th Ave and Claude Ct, Thornton, 10000259

CONNECTICUT

New Haven County

Hooker, Elizabeth R., House, 123 Edgehill Rd, New Haven, 10000260

IOWA

Cerro Gordo County

Surf Ballroom, 460 N Shore Dr, Clear Lake, 10000261

KANSAS

Ellsworth County

Holyrod Santa Fe Depot, (Railroad Resources of Kansas MPS) Between Main St and Smith St, Holyrod, 10000262

Shawnee County

Uniontown Cemetery, NW Douglas Rd, Willard, 10000263

MICHIGAN

Mason County

Ludington United States Coast Guard Station, 101 S Lakeshore Dr, Ludington, 10000264

MISSOURI

Clay County

Ligon Apartments, 211 E Excelsior St, Excelsior Springs, 10000265

NORTH DAKOTA

Pembina County

Walla Theater, 909 Central Ave, Walhalla, 10000266

TEXAS

Bexar County

University of the Incarnate Word Administration Building, 4301 Broadway, San Antonio, 10000267

Galveston County

The Settlement Historic District,

Centered on the intersection of N Bell Dr and the 100 block of S Bell Dr with cross-streets Carve Ave and Eunice St, Texas City, 10000268

WISCONSIN

Oconto County

Chute Pond Dam, Chute Pond County Park, SH 32/64, Town of Mountain, 10000269

[FR Doc. 2010-10767 Filed 5-6-10; 8:45 am]

BILLING CODE 4312-51-P